DEPARTMENT OF TRANSPORTATION

Federal Highway Administration

Environmental Impact Statement; St. Louis County, MN

AGENCY: Federal Highway Administration (FHWA), DOT.

ACTION: Notice of Intent.

SUMMARY: The FHWA is issuing this notice to advise the public that an environmental impact statement (EIS) will be prepared for proposed highway improvements to Trunk Highway 53 (TH 53) in St. Louis County, Minnesota.

FOR FURTHER INFORMATION CONTACT: Cheryl Martin, Federal Highway Administration, Galtier Plaza, Box 75, 175 East Fifth Street, Suite 500, St. Paul, Minnesota 55101-2904, Telephone (651) 291-6120; or Brian Larson, Project Manager, Minnesota Department of Transportation—District 1, 1123 Mesaba Avenue, Duluth, Minnesota 55811, Telephone (218) 723-4960 ext. 3322; (651) 296-9930 TTY.

SUPPLEMENTARY INFORMATION: The FHWA, in cooperation with the Minnesota Department of Transportation, will prepare an EIS on a proposal to improve TH 53 between County Road 307 north of Virginia to the south city limit of Cook in St. Louis County, Minnesota, a distance of approximately 30.7 kilometers.

The proposed action is being considered to address future transportation demand, safety problems, access management, international and interregional trade corridor status, and pavement condition. Alternatives under consideration include (1) No build; and (2) four variations of “Build” alternatives involving reconstruction and/or realignment and new construction of TH 53 into a four-lane divided expressway. All four-lane alternatives utilize the existing TH 53 alignment from the Rice River (approximately 0.8 kilometer north of County Road 688) to the northern terminus of the project area (the south city limits of Cook). The southern portion (County Road 307 to the Rice River) contains three alternatives for realignment and one alternative which utilizes the existing TH 53 alignment. The “Trunk Highway 53 Scoping Document/Draft Scoping Decision Document” will be published in February or March 2000. A press release will be published to inform the public of the document's availability. Copies of the scoping document will be distributed to agencies, interested persons and libraries for review to aid in identifying issues and analyses to be contained in the EIS. A 30-day comment period for review of the document will be provided to afford an opportunity for all interested persons, agencies and groups to comment on the proposed action. A public scoping meeting will also be held during the comment period. Public notice will be given for the time and place of the meeting. Coordination has been initiated and will continue with appropriate Federal, State and local agencies and private organizations and citizens who have previously expressed or are known to have an interest in the proposed action. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: February 9, 2000.
Stanley M. Graczyk,
Project Development Engineer, Federal Highway Administration, St. Paul, Minnesota.

[FR Doc. 00-3971 Filed 2-17-00; 8:45 am]

BILLING CODE 4910-22-M